DEPARTMENT OF TRANSPORTATION

Federal Aviation Administration

14 CFR Part 39

[Docket No. FAA-2006-26492; Directorate Identifier 2006-CE-77-AD; Amendment 39-14861; AD 2006-26-03]

RIN 2120-AA64

Airworthiness Directives; Alpha Aviation Design Limited (Type Certificate No. A48EU formerly held by APEX Aircraft and AVIONS PIERRE ROBIN), Model R2160 Airplanes

AGENCY: Federal Aviation Administration (FAA), DOT.

ACTION: Final rule; request for comments.

SUMMARY: The FAA is adopting a new airworthiness directive (AD) for certain Alpha Aviation Model R2160 airplanes. This AD requires you to inspect the fuel pressure indication system for leakage at the end of the adapter in the fuel pressure indication system. This AD results from the possibility of fuel leakage at the end of the adapter in the fuel pressure indication system. We are issuing this AD to detect, correct, and prevent fuel leaks in the fuel pressure indicating system. This failure could allow fuel to leak near the exhaust manifold and lead to a fire.

DATES: This AD becomes effective on January 30, 2007.

We must receive any comments on this AD by January 25, 2007.

ADDRESSES: Use one of the following addresses to comment on this AD.

• DOT Docket Web site: Go to http://dms.dot.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

To get the service information identified in this AD, contact Alpha Aviation Ltd., Ingram Road, Hamilton Airport RD 2, Hamilton 2021, New Zealand; phone: 011 64 7 843 7070; fax: 011 64 7 843 8040.

To view the comments to this AD, go to http://dms.dot.gov. The docket number is FAA-2006-26492; Directorate Identifier 2006-CE-77-AD.

FOR FURTHER INFORMATION CONTACT: Karl Schletzbaum, Aerospace Engineer, 901 Locust, Room 301, Kansas City, Missouri 64106; telephone: (816) 329-4146; facsimile: (816) 329-4090.

SUPPLEMENTARY INFORMATION:

Discussion

The Civil Aviation Authority of New Zealand (CAA), which is the airworthiness authority for New Zealand, recently notified FAA that an unsafe condition may exist on certain Alpha Aviation Model R2160 airplanes. The CAA reports that there is the possibility of fuel leakage at the end of the adapter in the fuel pressure indication system.

This condition, if not corrected, could allow fuel leaks near the exhaust manifold and result in a fire.

FAA's Determination and Requirements of This AD

These Alpha Aviation Model R2160 airplanes were manufactured in France, their state of design authority is New Zealand, and they are type-certificated for operation in the United States under the provisions of section 21.29 of the Federal Aviation Regulations (14 CFR 21.29) and the applicable bilateral airworthiness agreement.

Under this bilateral airworthiness agreement, the CAA has kept us informed of the situation described above. We are issuing this AD because we evaluated all the information and determined the unsafe condition described previously is likely to exist or develop on other products of the same type design. This AD requires periodic inspection of the adaptor for leaks and repair if a leak is found.

Cost Impact

None of the Alpha Aviation Model R2160 airplanes affected by this action are on the U.S. Register. All airplanes included in the applicability of this rule currently are operated by non-U.S. operators under foreign registry; therefore, they are not directly affected by this AD action. However, the FAA considers this rule necessary to ensure that the unsafe condition is addressed in the event that any of these subject airplanes are imported and placed on the U.S. Register.

Should an affected airplane be imported and placed on the U.S. Register, accomplishment of the required action would take approximately 1 work-hour at an average labor rate of $80 per work-hour. There are no parts required for this AD. Based on these figures, the total cost impact of this AD would be $80 per airplane that would become registered in the United States.

Comments Invited

Because there are no affected airplanes on the U.S. register, it has no adverse economic impact and imposes no additional burden on any person. Therefore, prior notice and public procedures hereon are unnecessary. We invite you to send any written relevant data, views, or arguments regarding this AD. Send your comments to an address listed under the ADDRESSES section. Include the docket number “FAA-2006-26492; Directorate Identifier 2006-CE-77-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2006-26-03 Alpha Aviation Design Limited (Type Certificate No. A48EU formerly held by APEX Aircraft and AVIONS PIERRE ROBIN): Amendment 39-14861; Docket No. FAA-2006-26492; Directorate Identifier 2006-CE-77-AD.

Effective Date

(a) This AD becomes effective on January 30, 2007.

Affected ADs

(b) None.

Applicability

(c) This AD applies to Model R2160 airplanes, serial numbers 142, 143, 144, 147, 148, and 151 through 155, that are certificated in any category.

Unsafe Condition

(d) This AD is the result of the possibility of fuel leakage at the end of the adapter in the fuel pressure indication system. We are issuing this AD to detect and correct fuel leaks in the fuel pressure indicating system. This failure could allow fuel to leak near the exhaust manifold and lead to a fire.

Compliance

(e) To address this problem, you must do the following, unless already done:

Actions | Compliance | Procedures
(1) Inspect the fuel pressure system indication adaptor (part number 52.46.11.000 or FAA approved equivalent part number) for indication of fuel leakage | Before further flight after January 30, 2007 (the effective date of this AD) and thereafter at intervals not to exceed 50 hours time-in-service | Perform a visual inspection. Figure 1 of Robin Aviation Service Letter No 37 rev. 2 dated April 4, 2000, shows a view of the fuel pressure indicator system.
(2) If any leak is found, repair the leak | Before further flight after inspection required by paragraph (e)(1) of this AD | Perform a repair program approved specifically for this AD by the FAA.

Alternative Methods of Compliance (AMOCs)

(f) The Manager, Standards Staff, FAA, ATTN: Karl Schletzbaum, Aerospace Engineer, FAA, Small Airplane Directorate, 901 Locust, Room 301, Kansas City, Missouri 64106; telephone: (816) 329-4146; fax: (816) 329-4090, has the authority to approve AMOCs for this AD, if requested using the procedures found in 14 CFR 39.19.

Related Information

(g) This AD is related to the Civil Aviation Authority of New Zealand AD DCA/R2000/33, dated June 29, 2006, which references Direction Generale de l'Aviation Civile (DGAC) AD F-2001-391(a), dated October 3, 2001.

Material Incorporated by Reference

(h) None.

Issued in Kansas City, Missouri, on December 15, 2006.
Kim Smith,
Manager, Small Airplane Directorate, Aircraft Certification Service.

[FR Doc. E6-21923 Filed 12-22-06; 8:45 am]

BILLING CODE 4910-13-P